DEPARTMENT OF AGRICULTURE

Forest Service

Revision of Land Management Plan for the Francis Marion National Forest, SC

AGENCY: U.S. Forest Service, U.S. Department of Agriculture (USDA).

ACTION: Notice of Intent To Revise the Land and Resource Management Plan and prepare an Environmental Impact Statement (EIS) for the Francis Marion National Forest (Francis Marion).

SUMMARY: As directed by the National Forest Management Act (NFMA), the U.S. Forest Service is preparing the Francis Marion's revised land management plan (forest plan) and will also prepare an EIS) for this revised forest plan. This notice briefly describes the nature of the decision to be made, a proposed action based on the preliminary identified need to change the existing plan and information concerning public participation. It also provides estimated dates for filing the EIS and the name and address of the responsible agency official and the individuals who can provide additional information. Finally, this notice identifies the applicable planning rule that will be used for completing this plan revision. The revised forest plan will supersede the existing forest plan that was approved by the Regional Forester in December 1995. The existing forest plan will remain in effect until the revised forest plan takes effect.

DATES: Comments concerning the proposed action provided in this notice will be most useful in the development of the draft revised forest plan and EIS if received June 16, 2014. The agency expects to release a draft revised forest plan and draft EIS for formal comment by February 1, 2015 and a final revised forest plan and final EIS by April 30, 2016.

ADDRESSES: Comments may be submitted on-line at https://cara.ecosystem-management.org/Public//CommentInput?Project=40695 or sent via email to: comments-southern-francismarion-sumter@fs.fed.us. or via facsimile to (803) 561-4004. Electronic comments should include “FM Plan Revision” in the subject line. Written comments may be sent or delivered to: Francis Marion and Sumter National Forests, Attn: FM Plan Revision, 4931 Broad River Road, Columbia, S.C. 29212.

FOR FURTHER INFORMATION CONTACT: Planning Team Leader Mary Morrison, Planning Staff Officer Michelle Burnett or Public Affairs Specialist Tammy Terrell Robinson, Francis Marion and Sumter National Forests at (803) 561-4000. Information on this revision is also available on the Francis Marion and Sumter National Forests' Web site at http://www.fs.usda.gov/goto/scnfs/fmplan. Individuals who use telecommunication devices for the deaf (TDD) may call the Federal Information Relay Service (FIRS) at (800) 877-8339. Please call 8 a.m.-noon and 1 p.m.-4:30 p.m. Eastern Time Monday through Friday, except on federal holidays.

SUPPLEMENTARY INFORMATION:

A. Lead and Cooperating Agencies

The U.S. Forest Service is the lead agency on revision of the forest plan.

B. Name and Address of the Responsible Official

The responsible official who will approve the Record of Decision is Forest Supervisor John Richard “Rick” Lint, Francis Marion and Sumter National Forests, 4931 Broad River Road, Columbia, S.C. 29212.

C. Nature of the Decision To Be Made

The Francis Marion is preparing an EIS to revise the existing forest plan. The EIS process informs the Forest Supervisor so that he can decide which alternative best meets the public's diverse needs while conserving the forests' resources as required by the NFMA and the Multiple Use Sustained Yield Act.

The revised forest plan will:

• Describe the strategic intent of managing the Francis Marion into the next 10 to 15 years and address the identified needs to change the existing land management plan. Section D of this notice provides a description of the preliminary need to change and a description of the proposed action.

• Provide management direction in the form of desired conditions, objectives, suitability determinations, standards, guidelines and a monitoring program.

• Make changes to the structure and delineation of the Management Areas described in the existing plan along with possible changes to administratively designated areas and recommendations for changes to other designations.

• Provide a description of the plan area's distinctive roles and contributions within the broader landscape.

Some decisions will not be made within the revised forest plan. The following are several examples:

• The authorization of project-level activities on the Francis Marion is not a decision made in the forest plan but occurs through subsequent project specific decision-making.

• While some strategic guidance may be provided, decisions that might be associated with a Travel Management Plan under 36 CFR part 212 (such as the designation of routes and trails for motorized vehicle travel, equestrian and mountain bike use, as well as the management of individual roads) are not considered during plan revision but will be addressed through subsequent planning processes.

• Some issues (e.g., hunting regulations), although important, are beyond the authority or control of the National Forest System and will not be considered.

• No decision regarding oil and gas leasing availability will be made, though standards will be brought forward or developed that would serve as mitigations should an availability decision be necessary in the future.

D. Need To Change and Proposed Action

Preliminary Need To Change

The purposes and needs for revising the current forest plan are as follows: (1) The forest plan is more than 15 years old; (2) since the forest plan was approved in December 1995, there have been changes in economic, social, and ecological conditions, new policies and priorities, and new information based on monitoring and scientific research; and (3) extensive public and employee involvement, along with science-based evaluations, have helped identify the preliminary need to change the existing forest plan. What follows is a summary of the themes developed for the preliminary identified need to change. A more fully developed description of the preliminary need to change is available for review on the plan revision Web site at http://www.fs.usda.gov/goto/scnfs/fmplan.

The preliminary need to change statements include questions about how the Francis Marion will manage terrestrial plants, terrestrial animals, rare species (including threatened, endangered and candidate species and species of conservation concern), old growth characteristics, riparian areas, water quality, aquatic species and habitat, wood products, scenery, recreation opportunities (hiking, mountain biking, off-highway vehicle use, horseback riding), areas to be evaluated for possible wilderness recommendations, wilderness, forest health, roads, minerals, fire, lands, air quality, special uses and the contributions of the forest to local economies. A number of concerns involve impacts to the Francis Marion from outside the forest's boundary. These concerns include climate change, sea-level rise, non-native invasive species, increasing development adjacent to the Francis Marion, increasing demands for use of the Francis Marion (e.g., salable minerals, private access), increasing demands for access to the forest, and increasing law enforcement problems due to trespass or unauthorized roads.

The following six themes emerged during a series of public meetings from October 2012 through September 2013. These themes are broad concepts relating to public preferences and forest management needs and will be used while revising the forest plan. Then, the planning team reviewed the information in their assessments and developed statements that describe specific needs for changing the existing forest plan. Next, a management emphasis statement for each theme was developed and the statements were linked with the theme it addressed. This process recommends a preliminary need to change the existing forest plan; however, it does not include every topic that will be addressed in the final forest plan.

Theme 1: Maintain, improve, or restore the unique landscapes and features on the Francis Marion National Forest. Having more than 260,000 acres of natural landscapes that are adjacent to the Atlantic Ocean and the major metropolitan area of Charleston, South Carolina, many of the natural features on the forest are unique in local and regional settings. These landscapes form important ecological and historical centerpieces for the surrounding area adjacent to the national forest. For example, the restored longleaf pine ecosystems on the national forest not only provide habitat for animals, such as the endangered red cockaded woodpecker but also provide outstanding scenery of open pine stands of trees with grasses and rare plants. Wetland drainage, stream and other hydrologic modifications have altered habitats and function. The restoration of aquatic ecosystems, watersheds, and riparian areas are included under this theme. Watersheds are lands around rivers, lakes and streams, and riparian areas are lands along rivers, lakes and streams.

Theme 2: Improve the quality of life and health for stakeholders. Stakeholders have said that interacting with the forest environment improves their quality of life, health and well-being. Stakeholders also cited important aspects of improving their livelihoods to include: Getting away from congestion and reducing stress; enjoying the benefits of silence; becoming healthier through exercising; learning about the natural environment; and sustaining income and other basic needs for living.

Theme 3: Respond to challenges. Stakeholders are keenly interested in how the forest plan would address the major challenges of today. Among those challenges are: How to maintain fire-adapted natural systems in the face of severe restrictions on the use of prescribed fire in areas adjacent to development; the invasion of non-native species, such as the degradation of ecosystems caused by feral hogs; and management challenges, such as reducing conflicts among recreation users, especially during a time of budget reductions. Additionally, responding to major disturbances such as sea level rise, hurricanes and storm evacuations, floods, and severe wildfire is important for the stability of local communities.

Theme 4: Share operational and planning resources among partners; keep ongoing collaborative efforts vibrant and develop new ones. Sharing resources with partners and integrating into other planning efforts were important to stakeholders. Especially during this time of expanding communication technology, stakeholders are interested in having a forest plan that considers stakeholder contributions that can “make a bigger pie” and make possible the idea of “doing more with less.”

Theme 5: Develop a monitoring strategy that provides information for rapid responses to changing conditions. The framework for the 2012 planning regulations includes a rapid response system for dealing with risks and uncertainties. A broad scale and local level monitoring strategy is needed to respond to changing conditions. Stakeholders are interested in how the careful crafting of a broad scale monitoring program can provide information for local level adjustments on the national forest. Moreover, stakeholders would like to know how other government agencies' and non-governmental entities' information can be used to support a robust adaptive management system.

Theme 6: Integrate and coordinate resource management. Stakeholders and national forest managers want an integrated approach to managing the various natural resources and multiple uses of the national forest. The basic premise for this theme is how the desired conditions for landscapes and compatible multiple uses are packaged in discrete management areas that would derive to most benefit for the American public while protecting sensitive areas.

Proposed Action

The Proposed Action is to revise the forest plan to address the statements identified in the preliminary need to change the existing forest plan. Responding to challenges and opportunities, along with monitoring the implementation of the forest plan requires not only coordination across boundaries, but also a collaborative approach in the development of forest plan direction. Alternatives to the proposed action will be developed to address the significant issues that will be identified through scoping. The proposed action includes management approaches on the following resource topics:

• Ecosystem Diversity (terrestrial and aquatic ecosystems) Restoring and maintaining a variety of native ecosystems on suitable sites is the foundation of our planning efforts. We plan to accomplish this primarily through vegetation management programs that result in improved habitats for a variety of plants and animals (including threatened and endangered species and species of conservation concern) and increased resilience to potential effects from climate change. Our management approach focuses on restoring and maintaining composition, structure, function and connectivity for terrestrial and aquatic ecosystems. Current guidelines on managing these ecosystems require that we consider ecological integrity and diversity as follows:

1. What is needed to maintain or restore the ecological integrity of terrestrial and aquatic ecosystems and watersheds in the plan area, including plan components to maintain or restore their structure, function, composition and connectivity.

2. What is needed to maintain or restore the diversity of ecosystems and habitat types including:

(a) Key characteristics associated with terrestrial and aquatic ecosystem types;

(b) Rare aquatic and terrestrial plant and animal communities; and

(c) Native tree species diversity, similar to that which exists in the plan area.

• Species Diversity (threatened, endangered and candidate species and species of conservation concern) Management strategies for sustaining species diversity emphasize ecological conditions that: Protect and promote improved habitat conditions for federally-listed species; and Support a diversity of native plant and animal species in the long term. Our overall approach for managing species diversity is achieved in cooperation with state, federal and private partners, and focuses on: Maintaining and restoring composition, structure, fire regimes and connectivity; Reducing non-native invasive species; Returning native ecological systems to appropriate sites; and Restoring historic fire regimes to the landscape.

• Physical Environment (watersheds and soil, water and air quality) We propose to develop desired conditions and objectives for maintaining, restoring and monitoring the soil, water and air resources on the Francis Marion. Our management options vary with the resource and our ability to manage. National forest lands on the Francis Marion encompass only a small percentage of the streams and associated drainage areas within the coastal plain of the state. In addition, much of the impacts to air and water resources are due to activities outside of the area that the Forest Service manages. Therefore, our strategy is to focus on sustaining and improving watershed areas within national forest control while working cooperatively with other agencies and landowners to improve statewide watershed health and water, soil and air quality.

• Healthy Forests (vegetation management, climate change, non-native invasive species, prescribed burning, lands and special uses) Our overall strategy for achieving healthy forests is to use a combination of vegetation management practices including prescribed burning to restore and maintain resilient native ecosystems. Desired conditions for the different ecological systems are the primary context for the health of forests on the Francis Marion. The emphases in this plan include:

• Maintaining and restoring fire adapted ecosystems and longleaf pine;

• Maintaining moderate stand densities in pine and pine-hardwood stands;

• Regenerating stands to either restore more desired species such as longleaf pine and/or to create young age forest stands for ecological sustainability; and

• Controlling non-native invasive plant species and insect and disease outbreaks.

• Infrastructure (roads, facilities, trails) Focusing on safety and maintenance of existing infrastructure (roads, trails and facilities) is the management strategy for the Francis Marion, which includes backlogged repairs and upgrades, improvements for environmental protection, disposal of facilities that are no longer needed and rehabilitation of user-created trails and roads. We anticipate limited infrastructure additions depending on funding availability.

• Recreation, Cultural Resources and Forest Setting (wilderness, wild and scenic rivers, hunting, fishing, roadless, scenery) Management strategies for providing outdoor recreation opportunities, protecting heritage sites and maintaining a natural forest setting require balancing the increasing demand for more uses with protecting and maintaining existing desirable conditions. The Francis Marion National Forest provides a diverse range of quality natural and recreation opportunities in partnership with people and communities. The forest's niche is showcasing the diverse ecosystems that abound on the coastal plain through dispersed recreation opportunities. The Forest Service has a significant public stewardship responsibility for cultural resources in our care. Through public service the Forest Service provides opportunities to enhance cultural resources in our care and to learn about the past.

• Economic Benefits The management strategies for the Francis Marion National Forest are to produce a steady flow of benefits which are essential to sustaining life and fulfilling basic human needs and desires. These benefits stem from a number of provisioning, regulating, cultural and supporting services produced by biophysical and ecological processes within the forest. Collectively known as ecosystem services, these environmental goods and services are complexly linked to the health and vitality of human and ecological communities. The forest's provision of ecosystem services promotes human health and well-being at local, regional, and global scales. Although the Francis Marion National Forest will not be managed for predetermined levels of ecosystem services, the revised Forest plan will be developed to sustain and promote the production of previously identified ecosystem services. The Francis Marion National Forest will strive to foster inclusion and strengthen the connection between people and the National Forest in its planning process. The forest will actively engage and collaborate with neighboring communities, partners, other agencies, and representatives from Native American and Gullah/Geechee Nations to develop a collective vision for the National Forest in the future.

The need to change themes and proposed actions represent efforts to integrate and balance many of the concerns that have been identified to date and accomplish the following:

• Serve as a starting point for framing future discussions in proceeding with the Francis Marion plan revision; and

• Lend to discussions that would identify additional issues and need to change statements, different alternatives, different land allocations, changes in objectives, changes in suitable uses and different levels of analysis needed

A more fully developed description of the proposed action is available for review on the plan revision Web site at http://www.fs.usda.gov/goto/scnfs/fmplan.

E. Public Involvement

Two public meetings held in October and November 2012 were focused on identifying public concerns, special areas and key contacts. Two public meetings, focusing on sustainable recreation and ecological sustainability, were held in February 2013 and August 2013. These public meetings were held to solicit comments, opinions, data and ideas from members of the public as well as representatives of other governmental and non-governmental organizations. A combined total of more than 130 participants attended the meetings.

Comments received from the public meetings and from an online commenting tool, along with information obtained from the assessment, were used to develop the preliminary need to change statements. A draft assessment was released to the public in December 2013. Comments that have already been received and any other comments relating to the assessment that may be received following the publication of this notice will be considered in completing the assessment and in describing the Affected Environment section of the EIS. We expect to post the completed assessment report on our Web site (http://www.fs.usda.gov/goto/scnfs/fmplan) within four months after the scoping period closes.

F. Issues and Preliminary Alternatives

Information gathered during this scoping period, as well as other information, will be used to prepare the draft EIS. At this time, the Francis Marion is seeking input on the proposed action. From these comments, the Forest Service will identify issues that will serve as a focus for developing a draft forest plan and alternatives to be analyzed in the EIS.

G. Scoping Process

Written comments received in response to this notice will be:

• Analyzed to complete the identification of the need to change the existing plan;

• Used to further develop the proposed action; and

• Used to identify potential significant issues

Significant issues will, in turn, form the basis for developing alternatives to the proposed action. Comments on the preliminary need to change and proposed action will be most valuable if received by June 16, 2014 and should clearly articulate the reviewer's opinions and concerns. Comments received in response to this notice, including the names and addresses of those who comment, will be part of the public record. Comments submitted anonymously will be accepted and considered; however, see Section I concerning the objection process and the requirements for filing an objection. Refer to the Francis Marion and Sumter National Forests' Web site at http://www.fs.usda.gov/goto/scnfs/fmplan for information on when public meetings will be scheduled for refining the proposed action and identifying possible alternatives to the proposed action.

H. Applicable Planning Rule

Preparation of the revised forest plan for the Francis Marion began with the publication of a Notice of Initiation in the Federal Register on September 30, 2013 [78 FR 61329] and was initiated under the planning procedures contained in the 2012 Forest Service planning rule (36 CFR 219 (2012)).

I. Decision Will Be Subject to Objection

The decision to approve the Revised Land Management Plan for the Francis Marion National Forest will be subject to the objection process identified in 36 CFR 219 Subpart B (219.50 to 219.62). According to 36 CFR 219.53(a), those who may file an objection are individuals and entities who have submitted substantive formal comments related to a plan revision during the opportunities provided for public comment during the planning process.

J. Permits or Licenses Required To Implement the Proposed Action

No permits or licenses are needed for the development of a Land and Resource Management Plan.

K. Documents Available for Review

The complete preliminary need for change document, the assessment report including specialist reports, summaries of the public meetings and public meeting materials, and the Francis Marion's proposed action are posted on the Francis Marion and Sumter National Forests' Web site at: http://www.fs.usda.gov/goto/scnfs/fmplan. As necessary or appropriate, the material available on this site will be further adjusted as part of the planning process using the provisions of the Forest Service 2012 planning rule.

(Authority: 16 U.S.C. 1600-1614; 36 CFR 219 [77 FR 21260-21273]).

Dated: April 24, 2014.
John Richard Lint,
Forest Supervisor, Francis Marion and Sumter National Forests.

[FR Doc. 2014-09823 Filed 4-29-14; 8:45 am]

BILLING CODE 3410-ES-P